DEPARTMENT OF TRANSPORTATION

Coast Guard

33 CFR Part 165

[COTP Prince William Sound 01-005]

RIN 2115-AA97

Security Zones; Prince William Sound Captain of the Port Zone, Alaska

AGENCY: Coast Guard, DOT.

ACTION: Temporary final rule.

SUMMARY: The Coast Guard is establishing temporary security zones of 200 yards around all tank vessels greater than 20,000 deadweight tons (DWT) in the Captain of the Port Zone, Prince William Sound, Alaska. These vessel-centered security zones are needed to protect tank vessels from damage or injury from sabotage, destruction or other subversive acts. Entry into these security zones is prohibited unless specifically authorized by the Captain of the Port, Prince William Sound, Alaska, however, tank vessel escort, line handling, and pilot vessels are authorized to enter these moving security zones to carryout their functions associated with the movement of tank vessels to and from the Trans-Alaska Pipeline Valdez Terminal Complex.

DATES: This regulation is effective from 6 p.m. September 15, 2001 through June 1, 2002.

ADDRESSES: Documents indicated in this preamble as being available in the docket are part of docket [COTP Prince William Sound 01-005] and are available for inspection or copying at U.S. Coast Guard Marine Safety Office, PO Box 486, Valdez, Alaska 99686, between 7:30 a.m. and 4:30 p.m., Monday through Friday, except Federal holidays.

FOR FURTHER INFORMATION CONTACT: LT V. J. Kammer, U.S. Coast Guard Marine Safety Office, PO Box 486, Valdez, Alaska 99686, (907) 835-7229.

SUPPLEMENTARY INFORMATION:

Regulatory History

A notice of proposed rulemaking (NPRM) was not published for this regulation. In accordance with 5 U.S.C. 553 (b)(B), the Coast Guard finds good cause exists for not publishing an NPRM. The Coast Guard is taking this action for the immediate protection of the national security interests in light of the terrorist acts perpetrated on September 11, 2001. Also, in accordance with 5 U.S.C. 553 (d)(3), the Coast Guard finds good cause to exist for making this regulation effective less than 30 days after publication in the Federal Register. Publication of a notice of proposed rulemaking and delay of effective date would be contrary to the public interest because immediate action is necessary to provide for the safety of tank vessels calling at the Trans-Alaska Pipeline Valdez Terminal complex in Valdez, Alaska.

Discussion of the Regulation

The Coast Guard is establishing temporary security zones around all tank vessels greater than 20,000 deadweight tons (DWT) while transiting, mooring, unmooring, or loading within the Prince William Sound Captain of the Port (COTP) Zone, defined in 33 CFR 3.85-20 (b) as encompassing waters within the boundary that starts at Cape Puget at 148°26′ W, 59°56.06′ N; and proceeds northerly to 61°30′ N; thence easterly to the United States-Canadian boundary; thence southerly along the United States-Canadian boundary to 60°18.7′ N; thence southwesterly to the sea at 60°01.3′ N, 142°00′ W; thence southerly along 142°00′ W to the outermost boundary of the Exclusive Economic Zone (EEZ); thence along the outermost boundary of the EEZ to 148°26′ N; thence northerly along 148°26′ W to the place of origin at Cape Puget. These 200-yard security zones are activated when the subject vessels enter the Prince William Sound COTP Zone. These security zones are necessary to protect the subject tank vessels transiting the Prince William Sound COTP Zone from damage or injury from sabotage, destruction or other subversive acts.

Regulatory Evaluation

This rule is not a significant regulatory action under section 3(f) of Executive Order 12866 and does not require an assessment of potential costs and benefits under section 6(a)(3) of that order. It has not been reviewed by the Office of Management and Budget under that order. It is not significant under the regulatory policies and procedures of the Department of Transportation (DOT) (44 FR 11040; February 26, 1979). Because of the transitory nature of the zones, the Coast Guard expects the economic impact of this rule to be so minimal that a full Regulatory Evaluation under paragraph 10e of the regulatory policies and procedures of DOT is unnecessary.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. The number of small entities impacted by this rule is expected to be minimal because of the short duration of this rule and the transitory nature of these moving security zones.

Assistance for Small Entities

Under section 213(a) of the Small Business Regulatory Enforcement Fairness Act of 1996 (Public Law 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule contains no information collection requirements under the Paperwork Reduction Act (44 U.S.C. 3501 et seq.).

Federalism

The Coast Guard has analyzed this rule under the principles and criteria contained in Executive Order 13132 and has determined that this temporary final rule does not have sufficient federalism implications to warrant the preparation of a Federalism Assessment.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this rule and concluded that, under Figure 2-1, paragraph 34(g) of Commandant Instruction M16745.1C, this rule is categorically excluded from further environmental documentation.

List of Subjects in 33 CFR Part 165

Harbors, Marine safety, Navigation (water), Reporting and recordkeeping requirements, Safety measures, Vessels, Waterways.

For the reasons set forth in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. A new temporary § 165.T17-005 is added to read as follows:

§ 165.T17-005 Security zones; Captain of the Port Zone, Prince William Sound, Alaska.

(a) Location. The following are security zones: all waters within 200 yards of any tank vessel greater than 20,000 deadweight tons (DWT) while in the Prince William Sound Captain of the Port (COTP) Zone. The Prince William Sound COTP Zone encompasses all waters area within the boundary which starts at Cape Puget at 148°26′ W. longitude, 59°56.06′ N. latitude, and proceeds northerly to 61°30′ N. latitude; thence easterly to the United States-Canadian boundary; thence southerly along the United States-Canadian boundary to 60°18.7′ N, latitude; thence southwesterly to the sea at 60°01.3′ N, latitude, 142°00′ W, longitude; thence southerly along 142°00′ W, longitude to the outermost boundary of the Exclusive Economic Zone (EEZ) (as defined in § 2.05-35 of this chapter); thence along the outermost boundary of the EEZ to 148°26′ N, longitude; thence northerly along 148°26′ W, longitude, to the place of origin at Cape Puget at 59°56.06′ N, latitude. These security zones are necessary to protect tank vessels transiting within the Prince William Sound COTP Zone from damage or injury from sabotage, destruction or other subversive acts.

(b) Effective dates. This section is effective from 6 p.m. September 15, 2001 through June 1, 2002.

(c) Authority. In addition to 33 U.S.C. 1231 and 49 CFR 1.46, the authority for this section includes 33 U.S.C. 1226.

(d) Regulations.

(1) The general regulations governing security zones contained in 33 CFR 165.33 apply.

(2) Tank vessel escort tugs, line handling tugs, and pilot vessels are authorized entry into the moving security zone to carryout their functions associated with the movement of tank vessels to and from the Trans-Alaska Pipeline Valdez Terminal complex.

(3) All persons and vessels shall comply with the instructions of the Coast Guard Captain of the Port and the designated on-scene patrol personnel. These personnel comprise commissioned, warrant, and petty officers of the Coast Guard. Upon being hailed by a vessel displaying a U.S. Coast Guard ensign by siren, radio, flashing light, or other means, the operator of the vessel shall proceed as directed. Coast Guard Auxiliary and local or state agencies may be present to inform vessel operators of the requirements of this section and other applicable laws.

Dated: September 23, 2001.
P.M. Coleman,
Commander, U.S. Coast Guard, Captain of the Port, Prince William Sound, Alaska.

[FR Doc. 01-27876 Filed 11-6-01; 8:45 am]

BILLING CODE 4910-15-P